DEPARTMENT OF THE INTERIOR

Bureau of Land Management

[LLMTM00000.L111100000.XP0000 17XL1109AF MO#4500082502]

Notice of Public Meeting; Central Montana Resource Advisory Council

AGENCY: Bureau of Land Management, Interior.

ACTION: Notice.

SUMMARY: In accordance with the Federal Land Policy and Management Act and the Federal Advisory Committee Act of 1972, the U.S. Department of the Interior, Bureau of Land Management (BLM) Central Montana Resource Advisory Council (RAC) will meet as indicated below.

DATES: The Central Montana RAC meeting will be held on March 29 and 30, 2017, in Glasgow, Montana. The meeting on March 29, 2017, will be held from 12 p.m. to 5 p.m., with a 30-minute public comment period at 12:30 p.m. RAC members will take a field trip on March 30, 2017.

ADDRESSES: The meetings will be in the Cottonwood Inn Conference Room, 54250 U.S. Hwy. 2, Glasgow, MT 59230.

FOR FURTHER INFORMATION CONTACT: Mark Albers, North Central Montana District Manager, 1220 38th Street North, Great Falls, MT 59401, (406) 791-7794, malbers@blm.gov. Persons who use a telecommunications device for the deaf (TDD) may call the Federal Relay Service (FRS) at 1-800-677-8339 to contact the above individual during normal business hours. The FRS is available 24 hours a day, seven days a week to leave a message or question with the above individual. You will receive a reply during normal business hours.

SUPPLEMENTARY INFORMATION: This 15-member council advises the Secretary of the Interior, through the BLM, on a variety of management issues associated with public land management in Montana. During these meetings, the RAC is scheduled to participate in, discuss, and act upon these topics or activities. All RAC meetings are open to the public.

Agenda items for the March 29-30, 2017, sessions include, but are not limited to: An update on implementation of the existing Sweet Grass Hills mineral withdrawal; an update on the American Prairie Reserve bison conversion proposal; information on BLM travel management planning; HiLine precipitation; a briefing on the proposed Sandy Coal Boat Ramp; regular business items such as planning the next meeting's agenda; and. a field trip to a sage grouse lek.

The RAC meeting will also have time allocated for oral public comments. Depending on the number of persons wishing to comment and time available, the time for individual oral comments may be limited.

Before including your address, phone number, email address, or other personal identifying information in your comments, please be aware that your entire comment, including your personal identifying information, may be made publicly available at any time. While you can ask us in your comment to withhold your personal identifying information from public review, we cannot guarantee that we will be able to do so.

Authority: 43 CFR 1784.4-2.

Rick Hotaling,
Acting Associate State Director, BLM Montana/Dakotas.

[FR Doc. 2017-05386 Filed 3-16-17; 8:45 am]

BILLING CODE 4310-DN-P